DEPARTMENT OF COMMERCE

National Oceanic and Atmospheric Administration

[I.D. 080603C]

Endangered and Threatened Species; Take of Anadromous Fish

AGENCY: National Marine Fisheries Service (NMFS), National Oceanic and Atmospheric Administration (NOAA), Commerce.

ACTION: Receipt of an application to modify scientific research permit (1288) and request for comment.

SUMMARY: Notice is hereby given that NMFS has received an application for a permit modification for scientific research from Dynamac/USEPA in Corvallis, OR (1288). The modified permit would affect federally endangered Sacramento River winter-run Chinook salmon, threatened Central Valley spring-run Chinook salmon, and threatened Central Valley steelhead. This document serves to notify the public of the availability of the permit modification application for review and comment.

DATES: Written comments on the permit applications must be received at the appropriate address or fax number (see ADDRESSES) no later than 5 p.m. Pacific Standard Time on September 17, 2003.

ADDRESSES: Written comments on the modification request should be sent to the appropriate office as indicated below. Comments may also be sent via fax to the number indicated for the request. Comments will not be accepted if submitted via e-mail or the Internet. The applications and related documents for permit 1288 are available for review by appointment at the following address: Protected Resources Division, NMFS, 650 Capitol Mall, Suite 8-300, Sacramento, CA 95814 (ph: 916-930-3614, fax: 916-930-3629).

FOR FURTHER INFORMATION CONTACT: Rosalie del Rosario at phone number 916-930-3614, or e-mail: Rosalie.delRosario@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Sacramento River winter-run Chinook salmon (Oncorhynchus tshawytscha), threatened Central Valley spring-run Chinook salmon (O. tshawytscha), and threatened Central Valley steelhead (O. mykiss).

Applications Received

Dynamac/USEPA requests a modification to permit 1288 for take of juvenile endangered Sacramento River winter-run Chinook salmon, threatened Central Valley spring-run Chinook salmon, and threatened Central Valley steelhead associated with surveys of aquatic biological communities to assess the biological integrity of Central Valley streams rivers. Presently, permit 1288 authorizes intentional takes of threatened Southern Oregon/Northern California Coast coho salmon, threatened Central California Coast coho salmon, threatened Northern California steelhead, threatened Central California Coast steelhead, and threatened California Coastal Chinook salmon. Dynamac/USEPA requests additional authorization for an estimated total take of 5 juvenile winter-run Chinook salmon (that includes 7 percent incidental mortality), 10 juvenile spring-run Chinook salmon (7 percent incidental mortality), and 10 juvenile steelhead (7 percent incidental mortality) resulting from capture by electrofishing, measuring, and releasing of fish.

Dated: August 12, 2003.
Susan Pultz,
Acting Chief, Endangered Species Division, Office of Protected Resources, National Marine Fisheries Service.

[FR Doc. 03-21068 Filed 8-15-03; 8:45 am]

BILLING CODE 3510-22-S